DEPARTMENT OF THE INTERIOR

National Park Service

[NPS-WASO-HAFE-20082; PPWOWMADL3, PPMPSAS1Y.TD0000 (166)]

Proposed Information Collection; National Park Service Common Learning Portal

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This is a new collection. We may not conduct or sponsor and a person is not required to respond to a collection of information unless it displays a currently valid OMB control number.

DATES: To ensure that we are able to consider your comments on this IC, we must receive them by March 15, 2016.

ADDRESSES: Send your comments on the IC to Madonna L. Baucum, Information Collection Clearance Officer, National Park Service, 12201 Sunrise Valley Dr., MS-242, Rm. 2C114, Reston, VA 20192 (mail); or madonna_baucum@nps.gov (email). Please include “1024-HAFE CLP” in the subject line of your comments.

FOR FURTHER INFORMATION CONTACT: To request additional information about this IC, please contact Dale Carpenter at telephone (304) 535-6401 or via email at dale_carpenter@nps.gov.

SUPPLEMENTARY INFORMATION:

I. Abstract

The NPS Common Learning Portal (CLP) will serve as a common location for advertising national, regional, and park specific training events to NPS employees. The CLP is focused on increasing the visibility of training available to NPS employees and is also making the site available to the public to allow NPS partners, retired NPS employees, and other interested persons not directly affiliated with the NPS access. The CLP also establishes communities of practice using interest groups and forums in order to increase communication among the NPS training community. The CLP includes an Ask the Expert feature where industry experts or retired NPS employees who are experts in their field can field questions from NPS employees. Individuals may visit the Common Learning Portal to learn about upcoming training events without providing any information. However, in order to participate in community forum discussions, an account on the site must be created. Registering for an account requires the user provide the following information for use in the community discussion forums:

• Name,

• Email address, and

• Username.

Once registered, the user has the opportunity to voluntarily provide additional information on their portal profile, to include:

• Photo (optional)

• Title

• Location,

• Expertise,

• Duties, and

• Additional personal information such as hobbies or activities.

Additional information provided by the individual in these text fields such as hobbies or activities in general are unbeknownst to us; however we reserve the right to remove offending information from the portal at any time.

II. Data

OMB Control Number: None.

Title: National Park Service Common Learning Portal.

Service Form Number(s): None.

Type of Request: New.

Description of Respondents: Individuals.

Respondent's Obligation: Voluntary.

Frequency of Collection: One time.

Activity | Number of respondents | Number of annual responses | Completion time per response (mins) | Total annual burden hours
Common Learning Portal Account Registration | 6,000 | 6,000 | 5 | 500
Totals | 6,000 | 6,000 |  | 500

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 11, 2016.
Madonna L. Baucum,
Information Collection Clearance Officer, National Park Service.

[FR Doc. 2016-00716 Filed 1-14-16; 8:45 am]

BILLING CODE 4310-EH-P